DEPARTMENT OF HOMELAND SECURITY

Federal Emergency Management Agency

[Docket ID FEMA-2023-0026]

RIN 1660-AB12

FEMA Policy: Federal Flood Risk Management Standard (FFRMS)

AGENCY: Federal Emergency Management Agency, DHS.

ACTION: Notice of availability.

SUMMARY: The Federal Emergency Management Agency (FEMA) is announcing the availability of the final FEMA policy, Federal Flood Risk Management Standard (FFRMS). This policy provides detail, consistent with applicable regulations, on applicability, processes, resources, and responsibilities for implementing the FFRMS as part of FEMA's 8-step decision making process for carrying out the directives of Executive Order 11988, Floodplain Management, as amended.

DATES: The announcement of this policy is published in the Federal Register on July 11, 2024. The policy will be effective on September 9, 2024.

FOR FURTHER INFORMATION CONTACT: Portia Ross, Policy and Integration Division Director, Office of Environmental Planning and Historic Preservation, Resilience, DHS/FEMA, 400 C St. SW, Suite 313, Washington, DC 20472-3020. Phone: 202-709-0677; Email: fema-regulations@fema.dhs.gov.

SUPPLEMENTARY INFORMATION: FEMA is issuing this policy complementary to 44 CFR part 9, Floodplain Management and Protection of Wetlands, which governs FEMA's implementation of the Federal Flood Risk Management Standard (FFRMS). This policy facilitates implementation of FFRMS and bolsters the resilience of communities and Federal assets against the impacts of flooding.

Consistent with the final rule that is also published in today's edition of the Federal Register, this policy requires that FEMA determine the appropriate vertical flood elevation and corresponding horizontal FFRMS floodplain for Actions Subject to the FFRMS using either the Climate Informed Science Approach (CISA), the Freeboard Value Approach (FVA), or the 0.2 Percent Annual Chance Flood Approach (0.2PFA). Under the final policy, FEMA will determine the FFRMS flood elevation and corresponding FFRMS floodplain according to CISA for all locations where CISA is available where the best-available, actionable hydrologic and hydraulic data and methods that integrate current and future changes in flooding based on climate science exist. When using CISA, for non-critical actions the FFRMS floodplain will be at least as restrictive as the 1% annual chance (AC) flood elevation and corresponding horizontal floodplain,¹ and for critical actions the FFRMS floodplain will be at least as restrictive as the 0.2% AC flood elevation and corresponding horizontal floodplain. For locations where CISA is not available and actionable, FEMA will determine the FFRMS elevation and FFRMS floodplain for non-critical actions by using the area that would be inundated by the lower of the 0.2% AC flood or +2-foot FVA. For critical actions, FEMA will determine the FFRMS elevation and FFRMS floodplain using the area that would be inundated by the higher of the 0.2% AC flood or +3-foot FVA. (For locations where information about the elevation and/or extent of the 0.2% AC floodplain is not available, the FFRMS floodplain will be the +3-foot FVA for critical actions and +2-foot FVA for non-critical actions).

¹ In coastal areas Flood Insurance Rate Maps (FIRMs) and Flood Insurance Studies (FISs) provide 1% AC flood elevations that account for the effects of wave action. However, 0.2% AC flood elevations are generally stillwater elevations that do not account for the effects of wave action. In coastal areas, if the 0.2% AC flood elevation does not account for the effects of wave action, the FVA flood elevation must be used.

This policy also outlines FEMA's process to identify actions that may receive substantial damage or substantial improvement determinations, requires consideration of natural features and nature-based approaches as alternatives to a proposed action, explains requirements to minimize flood risk, and encourages early coordination when multiple Federal agencies are jointly engaged in an action to ensure a consistent approach to determine which floodplain determination is applied.

Authority: Executive Order 11988, Floodplain Management, as amended and implementing regulations of 44 CFR part 9, among other authorities listed in the proposed policy.

Deanne B. Criswell,
Administrator, Federal Emergency Management Agency.

[FR Doc. 2024-15170 Filed 7-10-24; 8:45 am]

BILLING CODE 9111-23-P